INTERNATIONAL TRADE COMMISSION

[Investigation Nos. 701-TA-510 and 731-TA-1245 (Second Review)

Calcium Hypochlorite From China; Determinations

On the basis of the record ¹ developed in the subject five-year reviews, the United States International Trade Commission (“Commission”) determines, pursuant to the Tariff Act of 1930 (“the Act”), that revocation of the countervailing and antidumping duty orders on calcium hypochlorite from China would be likely to lead to continuation or recurrence of material injury to an industry in the United States within a reasonably foreseeable time.

¹ The record is defined in § 207.2(f) of the Commission's Rules of Practice and Procedure (19 CFR 207.2(f)).

Background

The Commission instituted these reviews on June 2, 2025 (90 FR 23361) and determined on September 5, 2025 that it would conduct expedited reviews (90 FR 57098, December 9, 2025).²

² Due to the lapse in appropriations and ensuing cessation of Commission operations, the Commission tolled its schedule for this proceeding.

The Commission made these determinations pursuant to section 751(c) of the Act (19 U.S.C. 1675(c)). It completed and filed its determinations in these reviews on February 6, 2026. The views of the Commission are contained in USITC Publication 5701 (February 2026), entitled Calcium Hypochlorite from China: Investigation Nos. 701-TA-510 and 731-TA-1245 (Second Review).

By order of the Commission.
Issued: February 6, 2026.
Lisa Barton,
Secretary to the Commission.

[FR Doc. 2026-02645 Filed 2-9-26; 8:45 am]

BILLING CODE 7020-02-P